DEPARTMENT OF ENERGY

Federal Energy Regulatory Commission

[Docket No. EC05-48-000, et al.]

Kansas City Power & Light Company, et al.; Electric Rate and Corporate Filings

March 28, 2005.

The following filings have been made with the Commission. The filings are listed in ascending order within each docket classification.

1. Kansas City Power & Light Company and Aquila, Inc.

[Docket No. EC05-48-000]

Take notice that on March 22, 2005, Kansas City Power & Light Company (KCPL) and Aquila, Inc., submitted an amended application pursuant to section 203 of the Federal Power Act for authorization of a disposition of jurisdictional facilities whereby KCPL seeks to sell a portion of KCPL's transmission line known as Lake Road-Nashua Line to Aquila, Inc.

Comment Date: 5 p.m. eastern time on April 4, 2005.

2. Judith Gap Energy LLC; Spring Canyon Energy LLC

[Docket No. EC05-61-000]

Take notice that on March 21, 2005, Judith Gap Energy LLC (Judith Gap) and Spring Canyon Energy LLC (Spring Canyon) (collectively, Applicants) submitted an application pursuant to section 203 of the Federal Power Act for authorization of an indirect disposition of jurisdictional facilities through an upstream change in ownership of the Applicants that involves both an intra-corporate reorganization and the acquisition by one or more passive investors of an indirect non-voting, non-controlling equity interest in the Applicants (Transaction). Applicants state that once accepted for filing by the Commission, the jurisdictional facilities of the Applicants will be their respective market-based rate tariffs. Applicants further state that the transaction will not directly affect the Applicant's direct ownership of their respective jurisdictional facilities nor will the Transaction affect the operation of such facilities.

Comment Date: 5 p.m. eastern time on April 11, 2005.

3. New York Independent System Operator, Inc.

[Docket No. EL03-26-005]

Take notice that on March 21, 2005, the New York Independent System Operator, Inc. (NYISO) submitted a compliance filing in the above-referenced proceeding.

The NYISO states that it has electronically served a copy of this filing on the official representative of each of its customers, on each participant in its stakeholder committees, on the PSC, and on the electric utility regulatory agencies of New Jersey and Pennsylvania.

Comment Date: 5 p.m. eastern time on April 11, 2005.

4. PJM Interconnection, L.L.C.

[Docket No. ER03-1101-009]

Take notice that on March 22, 2005, PJM Interconnection, L.L.C. (PJM) filed the third of four six-month reports concerning the effects of PJM's credit policy for virtual bidders, as required by the Commission's September 22, 2003, Order in PJM Interconnection, L.L.C., 104 FERC ¶ 61,309 (2003); order on reh'g and compliance filings, 109 FERC ¶ 61,286 (2004).

PJM states that copies of this filing have been served on all persons listed on the official service list compiled by the Secretary in this proceeding.

Comment Date: 5 p.m. eastern time on April 12, 2005.

5. California Independent System Operator Corporation

[Docket No. ER05-416-003]

Take notice that, on March 22, 2005, the California Independent System Operator Corporation (ISO) submitted an informational filing as to the ISO's revised transmission Access Charge rates effective January 1, 2005, to implement the revised Transmission Revenue Balancing Accounts of the current Participating Transmission Owners.

The ISO states that this filing has been served upon the Public Utilities Commission of the State of California, the California Energy Commission, the California Electricity Oversight Board, the Participating Transmission Owners, and upon all parties with effective Scheduling Coordinator Service Agreements under the ISO Tariff. In addition, the ISO states it is posting the filing on the ISO home page.

Comment Date: 5 p.m. eastern time on April 6, 2005.

6. Gexa Energy LLC

[Docket No. ER05-714-000]

Take notice that on March 21, 2005, Gexa Energy LLC (Gexa) submitted for filing its Rate Schedule FERC No. 1, under which Gexa seeks to engage in wholesale electric power and energy transactions as a retail marketer. Gexa further states that it is requesting the grant of certain blanket approvals and the waiver of certain applicable Commission regulations.

Comment Date: 5 p.m. eastern time on April 11, 2005.

7. ISO New England Inc.

[Docket No. ER05-715-000]

Take notice that on March 21, 2005, ISO New England Inc. (the ISO) filed the Installed Capacity Requirements for the 2005/2006 Power, which begins on June 1, 2005. The ISO requests an effective date of May 1, 2005.

The ISO states that copies of these materials were sent to the New England Power Pool Participants and the New England state governors and regulatory commissions.

Comment Date: 5 p.m. eastern time on April 11, 2005.

8. Unitil Energy Systems, Inc.

[Docket No. ER05-716-000]

Take notice that on March 22, 2005, Unitil Energy Systems, Inc. (UES) filed a Notice of Cancellation with the seeking to cancel its Rate Schedule FERC No. 3, including Supplements No. 1-3, which consist of a Wheeling Agreement and Interconnection Agreement with Concord Steam Corporation, a qualifying facility. UES requests that the cancellation be made effective as of January 26, 2005.

Comment Date: 5 p.m. eastern time on April 12, 2005.

9. Spring Canyon Energy LLC

[Docket No. ER05-717-000]

Take notice that on March 21, 2005, Spring Canyon Energy LLC (Applicant) filed an application for market-based rate authority and submitted Electric Tariff, Original Volume No. 1 for filing.

Comment Date: 5 p.m. eastern time on April 11, 2005.

10. Avista Corporation

[Docket No. ER05-720-000]

Take notice that on March 21, 2005, Avista Corporation submitted Original Service Agreement No. 321, which is an Agreement for Purchase and Sale of Power between Avista Corporation and Public Utility District No. 1 of Douglas County, Washington (hereinafter Service Agreement).

Avista states that copies of the filing were served upon Douglas, the sole party to the Service Agreement.

Comment Date: 5 p.m. eastern time on April 11, 2005.

11. Judith Gap Energy LLC

[Docket No. ER05-721-000]

Take notice that on March 21, 2005, Judith Gap Energy LLC (Applicant) filed an application for market-based rate authority and submitted Electric Tariff, Original Volume No. 1 for filing.

Comment Date: 5 p.m. eastern time on April 11, 2005.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Linda Mitry,
Deputy Secretary.

[FR Doc. E5-1484 Filed 4-1-05; 8:45 am]

BILLING CODE 6717-01-P